OFFICE OF PERSONNEL MANAGEMENT

Proposed Collection; Comment Request for Review of an Expiring Information Collection: OPM Form 1644

AGENCY: Office of Personnel Management.

ACTION: Notice.

SUMMARY: In accordance with the Paperwork Reduction Act of 1995 (Pub. L. 104-13, May 22, 1995), this notice announces that the Office of Personnel Management (OPM) intends to submit to the Office of Management and Budget a request for review of an expiring information collection. OPM Form 1644, Child Care Provider Information: Child Care Tuition Assistance Program for Federal Employees, is used to verify that child care providers are licensed or regulated by local or State authorities, as appropriate. Public Law 106-58 passed by Congress on September 29, 1999, permits Federal agencies to use appropriated funds to help their lower income employees with their costs for child care provided by a contractor licensed or regulated by local or State authorities, as appropriate. Therefore, agencies need to verify that child care providers to whom they make disbursements in the form of child care subsidies meet the statutory requirement. We estimate approximately 2000 OPM 1644 forms will be completed annually. The form will take approximately 10 minutes to complete by each provider. The annual estimated burden is 333.3 hours.

Comments are particularly invited on:

—Whether the form adequately captures the information needed to verify child care provider local or State licensure and regulation;

—whether our estimate of the public burden of this collection of information is accurate and based on valid assumptions and methodology; and

—ways in which we can minimize the burden of the collection of information on those who are to respond, through use of the appropriate technological collection techniques or other information collection strategies.

For copies of this proposal, contact Mary Beth Smith-Toomey on (202) 606-8358, FAX (202) 418-3251 or e-mail to mbtoomey@opm.gov. Please provide a mailing address because this proposal is not available electronically.

DATES: Comments on this proposal should be received within 60 calendar days from the date of this publication.

ADDRESSES: Send or deliver comments to: Bonnie Storm, Manager, WorkLife Group, U.S. Office of Personnel Management, 1900E St., NW., Washington, DC 20415.

Office of Personnel Management.
Kay Coles James,
Director.

[FR Doc. 04-15134 Filed 7-2-04; 8:45 am]

BILLING CODE 6325-39-P